DEPARTMENT OF HEALTH AND HUMAN SERVICES

Centers for Disease Control and Prevention

[30Day-12-09BK]

Agency for Toxic Substances and Disease Registry; Agency Forms Undergoing Paperwork Reduction Act Review

The Agency for Toxic Substances and Disease Registry (ATSDR) publishes a list of information collection requests under review by the Office of Management and Budget (OMB) in compliance with the Paperwork Reduction Act (44 U.S.C. chapter 35). To request a copy of these requests, call the CDC/ATSDR Reports Clearance Officer at (404) 639-7570 or send an email to omb@cdc.gov. Send written comments to CDC Desk Officer, Office of Management and Budget, Washington, DC 20503 or by fax to (202) 395-5806. Written comments should be received within 30 days of this notice.

Proposed Project

Registration of Individuals Displaced by the Hurricanes Katrina and Rita (Pilot Project)—New—Agency for Toxic Substances and Disease Registry (ATSDR), Centers for Disease Control and Prevention (CDC).

Background and Brief Description

On August 29, 2005, Hurricane Katrina made landfall on the coast of the Gulf of Mexico near New Orleans, Louisiana, and became one of the most deadly and destructive storms in U.S. history. Also occurring in 2005, Hurricane Rita was the fourth-most intense Atlantic hurricane ever recorded and the most intense tropical cyclone ever observed in the Gulf of Mexico. Following the initial phase of the response, the Federal Emergency Management Agency (FEMA) assumed the primary role for housing displaced persons over the intermediate term. To support those needing temporary housing, FEMA provided over 130,000 travel trailers, park homes, and mobile homes for persons displaced by the above mentioned storms. However, some persons living in trailers complained of an odor or of eye or respiratory tract irritation.

FEMA entered into an Interagency Agreement with the Centers for Disease Control and Prevention (CDC)/ATSDR on August 16, 2007 to conduct a comprehensive public health assessment, based on objective and credible research, of air quality conditions present in FEMA housing units to guide FEMA policy makers and inform the public as to the actual conditions in the field and any actions required to better promote a safe and healthful environment for the disaster victims FEMA housed in the units. FEMA's agreement with the CDC includes an initial formaldehyde exposure assessment as well as a subsequent long-term study of the health effects among resident children. Formaldehyde testing conducted and evaluated by the CDC pursuant to the initial exposure assessment has identified the need to evaluate the feasibility of establishing a national registry to identify and monitor the health of disaster victims who occupied FEMA-provided temporary housing units. The establishment of such a registry would complement the long-term health effects study set forth in the FEMA-CDC Interagency Agreement.

The proposed pilot registry will have two goals: Primary Goal: Test the feasibility and cost of contacting and enrolling members in a registry by collecting and verifying phone interview data. Secondary Goal: Test the difference in prevalence rates of health conditions compared to national surveys (i.e., NHANES and NHIS).

The data collected in the pilot registry and the evaluation of the pilot registry will be used to determine the feasibility and estimate the costs of developing and populating a more complete registry of people affected by Hurricanes Katrina and Rita. In addition, comparisons of prevalence rates of health outcomes obtained through the pilot registry with estimates from national surveys will help determine the utility of conducting a full registry. For example, if all or most health outcomes do not appear to be in excess, the value of a full registry may be questionable.

A pre-registration datasets will be created before enrollment. This dataset will be populated with contact information of the occupants of temporary housing units provided by FEMA. FEMA provided the datasets for this pilot registry.

A computer-assisted telephone interview (CATI) system based on a paper questionnaire will be used during all interviews to collect data for this project. The first part will consist of screening questions to determine eligibility for enrollment. The second part will contain contact information of the registrant and other household members, demographics, and health status questions, focusing on respiratory outcomes and mental health.

The two minute screening questionnaire will be administered to a total of 8,000 respondents. Annualized over a two year period, 4,000 will be screened. The 25 minute main questionnaire will be administered to a total of 5,000 respondents. Annualized over a two year period, 2,500 occupants will complete the main questionnaire.

There are no costs to the respondents other than their time. The total estimated annual burden hours are 1,176.

Estimated Annualized Burden Hours
Respondents | Form | Number of respondents | Number of responses per respondent | Average burden per response (in hours)
Temporary and Non-Temporary housing unit occupants | Screening questionnaire | 4,000 | 1 | 2/60
Main questionnaire | 2,500 | 1 | 25/60

Kimberly Lane,
Reports Clearance Officer, Agency for Toxic Substances and Disease Registry.

[FR Doc. 2012-2971 Filed 2-8-12; 8:45 am]

BILLING CODE 4163-18-P